DEPARTMENT OF THE INTERIOR

National Park Service

[N6730; NPS-WASO-NAGPRA-NPS0041489; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 14 cultural items has been requested for repatriation. The 14 objects of cultural patrimony are described as follows:

The one object of cultural patrimony collected from Upper Lake, Lake County, CA, is one lot of a basket. The object of cultural patrimony formerly belonged to Nutah, the father of Captain Chicken, was acquired by Grace A. Nicholson in 1906, and was donated to the PMAE by Lewis Hobart Farlow the same year.

The two objects of cultural patrimony collected from “Big Valley” in California are one lot of a basket and one lot of a basket beater. The objects of cultural patrimony were collected by Grace A. Nicholson and Carroll S. Hartman in 1910 and donated to the PMAE by Lewis Hobart Farlow the same year.

The three objects of cultural patrimony collected from unknown locations in California are one lot of a bear disguise or model, one lot of ear ornaments, and one lot of an elkhorn dagger, all made by William Benson, a known member of the Big Valley Band of Pomo Indians of the Big Valley Rancheria, California. The objects of cultural patrimony were collected by Grace A. Nicholson in 1907 and donated to the PMAE by Lewis Hobart Farlow the same year.

The one object of cultural patrimony collected from an unknown location in California is one lot of a spear. The object of cultural patrimony was purchased from Captain Cahidano by Grace A. Nicholson in 1906 and donated to the PMAE by Lewis Hobart Farlow the same year.

The seven objects of cultural patrimony collected from unknown locations in California are one lot of a hair pin, one lot of a whistle, one lot of a pair of ear ornaments, one lot of regalia, and one lot of a men's dance skirt that were collected by Grace A. Nicholson and donated to the PMAE by Lewis Hobart Farlow between 1909 and 1918; one lot of a feather headdress and head pin collected by Grace A. Nicholson and Carroll S. Hartman in 1910 and donated to the PMAE by Lewis Hobart Farlow the same year; and one lot of a woman's headdress collected by an unknown person at an unknown date and donated to the PMAE by Mrs. Thomas B. Bishop in 1908.

Determinations

The PMAE has determined that:

• The 14 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: December 2, 2025.
Melanie O'Brien,
Manager, National NAGPRA Program.

[FR Doc. 2025-23185 Filed 12-17-25; 8:45 am]

BILLING CODE 4312-52-P